DEPARTMENT OF COMMERCE

National Oceanic and Atmospheric Administration

RIN 0648-XE779

General Advisory Committee to the U.S. Section to the Inter-American Tropical Tuna Commission and Scientific Advisory Subcommittee to the General Advisory Committee; Conference Call Announcement

AGENCY: National Marine Fisheries Service (NMFS), National Oceanic and Atmospheric Administration (NOAA), Commerce.

ACTION: Notice of public meetings.

SUMMARY: NMFS announces a conference call of the General Advisory Committee (GAC) to the U.S. Section to the Inter-American Tropical Tuna Commission (IATTC) and the Scientific Advisory Subcommittee (SAS) to the GAC on September 23, 2016. The meeting and call topics are described under the SUPPLEMENTARY INFORMATION section of this notice.

DATES: The conference call with the GAC and SAS will be held on September 23, 2016, from 10 a.m. to 11:30 a.m. Pacific Daylight Time (or until business is concluded).

ADDRESSES: The call will be held via conference line: 1-888-790-6181, passcode: 55049.

FOR FURTHER INFORMATION CONTACT: Taylor Debevec, West Coast Region, NMFS, at Taylor.Debevec@noaa.gov, or at (562) 980-4066.

SUPPLEMENTARY INFORMATION: In accordance with the Tuna Conventions Act (16 U.S.C. 951 et seq.), as amended, the U.S. Department of Commerce, in consultation with the Department of State (the State Department), appoints a GAC to the U.S. Section to the IATTC, and a SAS that advises the GAC. The U.S. Section consists of four U.S. Commissioners to the IATTC and representatives of the State Department, NOAA, Department of Commerce, other agencies of the U.S. Government, and other stakeholders. The purpose of the GAC is to advise the U.S. Section with respect to scientific research about, and management of, tuna and tuna-like species in the eastern tropical Pacific Ocean conducted by the IATTC, with particular reference to development of U.S. policies, positions, and negotiating tactics. The purpose of the SAS is to advise the GAC on matters of science. NMFS West Coast Region provides administrative support for the GAC and SAS. The meetings of the GAC and SAS shall generally be open to the public, unless the meetings go into executive session for specific topics. The time and manner of public comment will be at the discretion of the chairs for the GAC and SAS.

The 90th meeting of the IATTC was held in La Jolla, CA, from June 27 to July 1, 2016, but not all agenda items were addressed and the meeting was temporarily adjourned. As such, the 90th meeting of the IATTC will be resumed from October 12 to October 14, 2016, in La Jolla, CA. For more information on the resumed meeting, please visit the IATTC's Web site: https://www.iattc.org/MeetingsENG.htm.

GAC and SAS Call Topics

The call topics will include, but are not limited to, the following:

1. Formulation of advice on issues that may arise at the resumed 90th meeting of the IATTC, including the IATTC staff's recommended conservation measures, U.S. proposals, and proposals from other IATTC members; and

2. Other issues as they arise.

Special Accommodations

Requests for sign language interpretation or other auxiliary aids should be directed to Taylor Debevec (see FOR FURTHER INFORMATION CONTACT) by September 16, 2016.

Authority: 16 U.S.C. 951 et seq.

Dated: September 6, 2016.
Jennifer M. Wallace,
Acting Director, Office of Sustainable Fisheries, National Marine Fisheries Service.

[FR Doc. 2016-21765 Filed 9-8-16; 8:45 am]

BILLING CODE 3510-22-P